DEPARTMENT OF THE INTERIOR

Fish and Wildlife Service

Rice Lake and Mille Lacs National Wildlife Refuges, Aitkin, Pine, and Mille Lacs Counties, MN

AGENCY: Fish and Wildlife Service, Interior.

ACTION: Notice of availability: Draft comprehensive conservation plan and environmental assessment; request for comments.

SUMMARY: The U.S. Fish and Wildlife Service (Service), announce the availability of a draft comprehensive conservation plan (CCP) and environmental assessment for Rice Lake and Mille Lacs National Wildlife Refuges (NWRs) for public review and comment. In this draft CCP/EA, we describe how we propose to manage these refuges for the next 15 years.

DATES: To ensure consideration, we must receive your written comments by July 30, 2007. Open house style meetings will be held during the comment period to receive comments and provide information on the draft plan. Special mailings, newspaper articles, Internet postings, and other media announcements will inform people of the meetings and opportunities for written comments.

ADDRESSES: Send your comments or requests for more information by any of the following methods. You may also drop off comments in person at Rice Lake NWR.

• Agency Web site: View or download a copy of the document and comment at http://www.fws.gov/midwest/planning/RiceLake/.

• E-mail: r3planning@fws.gov. Include “Rice Lake Draft CCP/EA” in the subject line of the message.

• Fax: 218-768-3040.

• Mail: Refuge Manager, Rice Lake National Wildlife Refuge, 36289 State Hwy 65, McGregor, MN 55760.

FOR FURTHER INFORMATION CONTACT: Walt Ford, 218-768-2402.

SUPPLEMENTARY INFORMATION:

Introduction

With this notice, we continue the CCP process for Rice Lake and Mille Lacs NWRs, which was started with the notice of intent published in 70 FR 5693 (February 3, 2005). For more about the initial process and the history of these refuges, see that notice. Rice Lake and Mille Lacs NWRs are located in east-central Minnesota. Both refuges are administered by the staff at Rice Lake NWR. Rice Lake NWR is a mosaic of lakes, marshes, forests, and grasslands that provide a variety of habitat for migrant and resident wildlife. The Refuge is especially noted for its fall concentrations of Ring-necked Ducks, which often number over 150,000 birds. The Refuge also includes pre-historic and historic cultural resources of recognized importance. Mille Lacs NWR is the smallest refuge in the National Wildlife Refuge System. The 0.57-acre Refuge consists of two islands in Mille Lacs Lake. One island is managed as a nesting colony for the State-listed threatened Common Tern. The other island is used by other colonial nesting species.

Background

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other governmental partners, and the public identified several priority issues, which include: Management of the grassland area on auto tour route; management of water levels in Rice Lake; pending Wilderness recommendation; Native American activities on the Refuge; interpretation of cultural resources on the Refuge; unmet demand for interpretation and environmental education; erosion of Hennepin Island (Mille Lacs); operation of the Sandstone Unit. To address these issues, we developed and evaluated the following alternatives during the planning process.

Alternative A, Current Management

Under Alternative A, Current Management, the 170 acres of grassland on the auto tour route would be maintained; stable water levels in Rice Lake would be maintained throughout the growing season and at sufficient level to allow rice harvest; the 1,400 acre area with the pending Wilderness recommendation would be managed as de facto wilderness; Native American ceremonies would be held under special use permit and wild rice harvest coordinated with local Native American committee; cultural resources would not be interpreted on-site; demand for interpretation and environmental education would be responded to as staff and time permitted; the erosion of Hennepin Island would continue; and the 2005 landcover at the Sandstone Unit would be maintained while allowing for forest succession.

Alternative B, Preferred Alternative

Under Alternative B, Preferred Alternative, 85 acres would be maintained as grassland on the auto tour route to facilitate wildlife observation; water levels would be allowed to fluctuate in Rice Lake to more closely approximate a natural system; the 1,400 acre Wilderness recommendation would be withdrawn to allow for more active management; Native American ceremonies would be held under special use permit and wild rice harvest would be coordinated with local Native American committee; additional interpretation of cultural resources would be developed in cooperation with the Mille Lacs Band of Ojibwe; demand for interpretation and environmental education would be responded to with additional interpretive opportunities and educational programs with the addition of a park ranger position; the erosion of Hennepin Island would be reversed through rebuilding and protection with a constructed reef; and the 2005 landcover at the Sandstone Unit would be maintained while allowing for forest succession.

Public Meeting

We will give the public an opportunity to provide comments at a public meeting. You may obtain the schedule from the addresses listed above (see ADDRESSES). You may also submit comments anytime during the comment period.

Public Availability of Comments

Before including your address, phone number, e-mail address, or other personal identifying information in your comment, you should know that your entire comment—including your personal identifying information—may be made publicly available at any time. While you may ask us in your comment to withhold your personal identifying information from public review, we cannot guarantee that we will be able to do so.

Dated: April 27, 2007.
Charles M. Wooley,
Acting Regional Director, U.S. Fish and Wildlife Service, Fort Snelling, Minnesota.

[FR Doc. E7-12228 Filed 6-22-07; 8:45 am]

BILLING CODE 4310-55-P